DEPARTMENT OF TRANSPORTATION

Federal Aviation Administration

14 CFR Part 95

[Docket No. 31327; Amdt. No. 554]

IFR Altitudes; Miscellaneous Amendments

AGENCY: Federal Aviation Administration (FAA), Transportation (DOT).

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective date: 0901 UTC, September 10, 2020.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on August 7, 2020.
Wade Terrell,
Aviation Safety, Manager, Flight Procedures & Airspace Group, Flight Technologies and Procedures Division.

Adoption of the Amendment

Accordingly, pursuant to the authority delegated to me by the Administrator, part 95 of the Federal Aviation Regulations (14 CFR part 95) is amended as follows effective at 0901 UTC, September 10,2020.

1. The authority citation for part 95 continues to read as follows:

Authority: 49 U.S.C. 106(g), 40103, 40106, 40113, 40114, 40120, 44502, 44514, 44719, 44721.

2. Part 95 is amended to read as follows:

Revisions to IFR Altitudes and Changeover Point
[Amendment 554 effective date September 10, 2020]
From | To | MEA | MAA
§ 95.3000 Low Altitude RNAV Routes
§ 95.3286 RNAV Route T286 Is Amended by Adding
GRAND ISLAND, NE VOR/DME | PAWNEE CITY, NE VORTAC | 3600 | 17500
PAWNEE CITY, NE VORTAC | ROBINSON, KS VOR/DME | 3100 | 17500
ROBINSON, KS VOR/DME | BOWLR, KS FIX | 2900 | 17500
§ 95.3383 RNAV Route T383 Is Amended by Adding
BLUOX, MN FIX | BAUDETTE, MN VOR/DME | 3500 | 17500
§ 95.4000 High Altitude RNAV Routes
§ 95.4068 RNAV Route Q68 Is Amended by Adding
LITTR, AR WP | SOPIE, TN FIX | *18000 | 45000
*18000—GNSS MEA
*DME/DME/IRU MEA
SOPIE, TN FIX | BOWLING GREEN, KY VORTAC | *18000 | 45000
*18000—GNSS MEA
*DME/DME/IRU MEA
BOWLING GREEN, KY VORTAC | YOCKY, KY FIX | *18000 | 45000
*18000—GNSS MEA
*DME/DME/IRU MEA
YOCKY, KY FIX | SPAYD, WV FIX | *18000 | 45000
*18000—GNSS MEA
*DME/DME/IRU MEA
SPAYD, WV FIX | CHARLESTON, WV VOR/DME | *18000 | 45000
*18000—GNSS MEA
*DME/DME/IRU MEA
§ 95.4119 RNAV Route Q119 Is Added To Read
SCOOB, VA WP | GROKK, VA WP | *18000 | 45000
*18000—GNSS MEA
*DME/DME/IRU MEA
GROKK, VA WP | RYVRR, VA WP | *18000 | 45000
*18000—GNSS MEA
*DME/DME/IRU MEA
RYVRR, VA WPS | SHTGN, MD WP | *18000 | 45000
*18000—GNSS MEA
*DME/DME/IRU MEA
SHTGN, MD WP | DUALY, MD WP | *18000 | 45000
*18000—GNSS MEA
*DME/DME/IRU MEA
DUALY, MD WP | HALEX, MD WP | *18000 | 45000
*18000—GNSS MEA
*DME/DME/IRU MEA
HALEX, MD WP | WESTMINSTER, MD VORTAC | *18000 | 45000
*18000—GNSS MEA
*DME/DME/IRU MEA
§ 95.4127 RNAV Route Q127 Is Added To Read
GORDONSVILLE, VA VORTAC | BUKYY, MD WP | *18000 | 45000
*18000—GNSS MEA
*DME/DME/IRU MEA
BUKYY, MD WP | BAILZ, MD WP | *18000 | 45000
*18000—GNSS MEA
*DME/DME/IRU MEA
BAILZ, MD WP | GRACO, MD FIX | *18000 | 45000
*18000—GNSS MEA
*DME/DME/IRU MEA
GRACO, MD FIX | SMYRNA, DE VORTAC | *18000 | 45000
*18000—GNSS MEA
*DME/DME/IRU MEA
§ 95.4129 RNAV Route Q129 Is Added To Read
GARIC, NC WP | YERBA, NC WP | *18000 | 45000
*18000—GNSS MEA
*DME/DME/IRU MEA
YERBA, NC WP | AARNN, NC WP | *18000 | 45000
*18000—GNSS MEA
*DME/DME/IRU MEA
AARNN, NC WP | THEOO, VA WP | *18000 | 45000
*18000—GNSS MEA
*DME/DME/IRU MEA
THEOO, VA WP | PYTON, MD WP | *18000 | 45000
*18000—GNSS MEA
*DME/DME/IRU MEA
§ 95.4136 RNAV Route Q136 Is Amendeded To Read in Part
COUGH, CO WP | BBULL, CO WP | *21000 | 45000
*18000—GNSS MEA
*DME/DME/IRU MEA
BBULL, CO WP | ZIRKL, NE WP | *21000 | 45000
*18000—GNSS MEA
*DME/DME/IRU MEA
§ 95.4150 RNAV Route Q150 Is Amended To Read in Part
YAMPA, CO WP | BBULL, CO WP | *24000 | 45000
*18000—GNSS MEA
*DME/DME/IRU MEA
BBULL, CO WP | DUUZE, KS WP | *24000 | 45000
*18000—GNSS MEA
*DME/DME/IRU MEA
§ 95.4220 RNAV Route Q220 Is Added To Read
RIFLE, NY FIX | HOFFI, NY FIX | *18000 | 45000
*18000—GNSS MEA
*DME/DME/IRU MEA
HOFFI, NY FIX | ORCHA, NY WP | *18000 | 45000
*18000—GNSS MEA
*DME/DME/IRU MEA
ORCHA, NY WP | ALBOW, NY WP | *18000 | 45000
*18000—GNSS MEA
*DME/DME/IRU MEA
ALBOW, NY WP | SANDY POINT, RI VOR/DME | *18000 | 45000
*18000—GNSS MEA
*DME/DME/IRU MEA
SANDY POINT, RI VOR/DME | SKOWL, RI WP | *18000 | 45000
*18000—GNSS MEA
*DME/DME/IRU MEA
SKOWL, RI WP | JAWZZ, MA WP | *18000 | 45000
*18000—GNSS MEA
*DME/DME/IRU MEA
JAWZZ, MA WP | LARIE, MA WP | *18000 | 45000
*18000—GNSS MEA
*DME/DME/IRU MEA
§ 95.4430 RNAV Route Q430 Is Added To Read
ZANDR, OH FIX | BELLAIRE, OH VOR/DME | *18000 | 45000
*18000—GNSS MEA
*DME/DME/IRU MEA
BELLAIRE, OH VOR/DME | LEJOY, PA FIX | *18000 | 45000
*18000—GNSS MEA
*DME/DME/IRU MEA
LEJOY, PA FIX | VINSE, PA FIX | *18000 | 45000
*18000—GNSS MEA
*DME/DME/IRU MEA
VINSE, PA FIX | BEETS, PA FIX | *18000 | 45000
*18000—GNSS MEA
*DME/DME/IRU MEA
BEETS, PA FIX | LARRI, PA FIX | *18000 | 45000
*18000—GNSS MEA
*DME/DME/IRU MEA
LARRI, PA FIX | SAAME, PA FIX | *18000 | 45000
*18000—GNSS MEA
*DME/DME/IRU MEA
SAAME, PA FIX | BYRDD, PA FIX | *18000 | 45000
*18000—GNSS MEA
*DME/DME/IRU MEA
BYRDD, PA FIX | COPES, PA FIX | *18000 | 45000
*18000—GNSS MEA
*DME/DME/IRU MEA
COPES, PA FIX | ROBBINSVILLE, NJ VORTAC | *18000 | 45000
*18000—GNSS MEA
*DME/DME/IRU MEA
ROBBINSVILLE, NJ VORTAC | MYRCA, NJ WP | *18000 | 45000
*18000—GNSS MEA
*DME/DME/IRU MEA
MYRCA, NJ WP | CREEL, NY FIX | *18000 | 45000
*18000—GNSS MEA
*DME/DME/IRU MEA
CREEL, NY FIX | RIFLE, NY FIX | *18000 | 45000
*18000—GNSS MEA
*DME/DME/IRU MEA
RIFLE, NY FIX | KYSKY, NY FIX | *18000 | 45000
*18000—GNSS MEA
*DME/DME/IRU MEA
KYSKY, NY FIX | LIBBE, NY FIX | *18000 | 45000
*18000—GNSS MEA
*DME/DME/IRU MEA
LIBBE, NY FIX | FLAPE, MA FIX | *18000 | 45000
*18000—GNSS MEA
*DME/DME/IRU MEA
FLAPE, MA FIX | DEEPO, MA FIX | *18000 | 45000
*18000—GNSS MEA
*DME/DME/IRU MEA
DEEPO, MA FIX | NANTUCKET, MA VOR/DME | *18000 | 45000
*18000—GNSS MEA
*DME/DME/IRU MEA
§ 95.4439 RNAV Route Q439 Is Added To Read
BRIGS, NJ FIX | DRIFT, NJ FIX | *18000 | 45000
*18000—GNSS MEA
*DME/DME/IRU MEA
DRIFT, NJ | FIX MANTA, NJ FIX | *18000 | 45000
*18000—GNSS MEA
*DME/DME/IRU MEA
MANTA, NJ FIX | PLUME, NJ FIX | *18000 | 45000
*18000—GNSS MEA
*DME/DME/IRU MEA
PLUME, NJ FIX | SHERL, NY FIX | *18000 | 45000
*18000—GNSS MEA
*DME/DME/IRU MEA
SHERL, NY FIX | DUNEE, NY FIX | *18000 | 45000
*18000—GNSS MEA
*DME/DME/IRU MEA
DUNEE, NY FIX | SARDI, NY FIX | *18000 | 45000
*18000—GNSS MEA
*DME/DME/IRU MEA
SARDI, NY FIX | RIFLE, NY FIX | *18000 | 45000
*18000—GNSS MEA
*DME/DME/IRU MEA
RIFLE, NY FIX | FOXWD, CT WP | *18000 | 45000
*18000—GNSS MEA
*DME/DME/IRU MEA
FOXWD, CT WP | BOGRT, MA WP | *18000 | 45000
*18000—GNSS MEA
*DME/DME/IRU MEA
BOGRT, MA WP | BLENO, NH WP | *18000 | 45000
*18000—GNSS MEA
*DME/DME/IRU MEA
BLENO, NH WP | BEEKN, ME WP | *18000 | 45000
*18000—GNSS MEA
*DME/DME/IRU MEA
BEEKN, ME WP | FRIAR, ME FIX | *18000 | 45000
*18000—GNSS MEA
*DME/DME/IRU MEA
FRIAR, ME FIX | PRESQUE ISLE, ME VOR/DME | *18000 | 45000
*GNSS REQUIRED
§ 95.4450 RNAV Route Q450 Is Added To Read
HNNAH, NJ FIX | KENNEDY, NY VOR/DME | *18000 | 45000
*18000—GNSS MEA
*DME/DME/IRU MEA
KENNEDY, NY VOR/DME | DEER PARK, NY VOR/DME | *18000 | 45000
*18000—GNSS MEA
*DME/DME/IRU MEA
§ 95.4480 RNAV Route Q480 Is Amended To Read in Part
BARNES, MA VORTAC | KYLOH, NH WP | *18000 | 45000
*18000—GNSS MEA
*DME/DME/IRU MEA
KYLOH, NH WP | BEEKN, ME WP | *18000 | 45000
*18000—GNSS MEA
*DME/DME/IRU MEA
BEEKN, ME WP | KENNEBUNK, ME VOR/DME | *18000 | 45000
*18000—GNSS MEA
*DME/DME/IRU MEA

From | To | MEA
§ 95.6001 Victor Routes-U.S.
§ 95.6003 VOR Federal Airway V3 Is Amended To Read in Part
PRESQUE ISLE, ME VOR/DME | U.S. CANADIAN BORDER | *8000
*4200—MOCA
§ 95.6004 VOR Federal Airway V4 Is Amended To Delete
LEXINGTON, KY VOR/DME | NEWCOMBE, KY VORTAC | 3100
NEWCOMBE, KY VORTAC | CHARLESTON, WV VOR/DME | 3000
§ 95.6005 VOR Federal Airway V5 Is Amended To Delete
CHOO CHOO, TN VORTAC | MCMIN, TN FIX | 4000
MCMIN, TN FIX | HARME, TN FIX | *6000
*3700—MOCA
HARME, TN FIX | BOWLING GREEN, KY VORTAC | *2800
*2300—MOCA
BOWLING GREEN, KY VORTAC | NEW HOPE, KY VOR/DME | 2900
§ 95.6008 VOR Federal Airway V8 Is Amended To Read in Part
GOSHEN, IN VORTAC | *TWERP, OH FIX | **4500
*5000—MRA
**2500—MOCA
TWERP, OH FIX | FLAG CITY, OH VORTAC | 2700
§ 95.6013 VOR Federal Airway V13 Is Amended To Delete
FARMINGTON, MN VORTAC | *WAGNR, MN FIX | **5500
*5500—MRA
**3400—MOCA
WAGNR, MN FIX | CINCI, MN FIX | *5500
*3400—MOCA
CINCI, MN FIX | SIREN, WI VOR/DME | *3400
*2700—MOCA
SIREN, WI VOR/DME | DULUTH, MN VORTAC | 4000
§ 95.6018 VOR Federal Airway V18 Is Amended To Delete
CEDAR CREEK, TX VORTAC | QUITMAN, TX VOR/DME | 2500
QUITMAN, TX VOR/DME | CADOZ, TX FIX | 2400
CADOZ, TX FIX | BELCHER, LA VORTAC | 2500
§ 95.6020 VOR Federal Airway V20 Is Amended To Read in Part
GULFPORT, MS VORTAC | SEMMES, AL VORTAC | *5000
*1800—MOCA
§ 95.6026 VOR Federal Airway V26 Is Amended To Read in Part
EAU CLAIRE, WI VORTAC | EDGRR, WI FIX
| E BND | *7500
| W BND | *4500
*2900—MOCA
EDGRR, WI FIX | WAUSAU, WI VOR/DME | *7500
*3600—MOCA
*3600—GNSS MEA
§ 95.6033 VOR Federal Airway V33 Is Amended To Delete
KEATING, PA VORTAC | BRADFORD, PA VOR/DME | 4000
BRADFORD, PA VOR/DME | BUFFALO, NY VOR/DME | *11000
*5000—GNSS MEA
§ 95.6037 VOR Federal Airway V37 Is Amended To Delete
ERIE, PA VORTAC | U.S. CANADIAN BORDER | 3000
§ 95.6049 VOR Federal Airway V49 Is Amended To Delete
NASHVILLE, TN VORTAC | TANDS, TN FIX | *4000
*2300—MOCA
TANDS, TN FIX | BOWLING GREEN, KY VORTAC | *4000
*2300—MOCA
BOWLING GREEN, KY VORTAC | MYSTIC, KY VOR | 2700
§ 95.6052 VOR Federal Airway V52 Is Amended To Delete
BOWLING GREEN, KY VORTAC | LIVINGSTON, TN VOR/DME | 11000
§ 95.6054 VOR Federal Airway V54 Is Amended To Delete
CEDAR CREEK, TX VORTAC | QUITMAN, TX VOR/DME | 2500
QUITMAN, TX VOR/DME | TEXARKANA, AR VORTAC | 2300
§ 95.6055 VOR Federal Airway V55 Is Amended To Delete
EAU CLAIRE, WI VORTAC | SIREN, WI VOR/DME | *5000
*2800—MOCA
*3000—GNSS MEA
§ 95.6059 VOR Federal Airway V59 Is Amended To Delete
PARKERSBURG, WV VOR/DME | NEWCOMERSTOWN, OH DME | 3000
§ 95.6061 VOR Federal Airway V61 Is Amended To Delete
GRAND ISLAND, NE VOR/DME | PAWNEE CITY, NE VORTAC | *4000
*3200—MOCA
PAWNEE CITY, NE VORTAC | ROBINSON, KS VOR/DME | 2800
ROBINSON, KS VOR/DME | BOWLR, KS FIX | 2600
§ 95.6082 VOR Federal Airway V82 Is Amended To Delete
BAUDETTE, MN VOR/DME | BLUOX, MN FIX | *7000
*3400—MOCA
*3500—GNSS MEA
§ 95.6084 VOR Federal Airway V84 Is Amended To Read in Part
NORTHBROOK, IL VOR/DME | *KUBBS, IL FIX | **3000
*4000—MRA
**2000—MOCA
KUBBS, IL FIX | *STORY, IL FIX | **3000
*3500—MRA
**2000—MOCA
STORY, IL FIX | PIVOT, IL FIX | *3000
*2000—MOCA
§ 95.6091 VOR Federal Airway V91 Is Amended To Delete
ALBANY, NY VORTAC | GLENS FALLS, NY VORTAC | *7000
*5000—GNSS MEA
GLENS FALLS, NY VORTAC | *ENSON, VT FIX | **10000
*10000—MCA ENSON, VT FIX, SW BND
**5000—GNSS MEA
ENSON, VT FIX | WEIGH, VT FIX | *4000
*2800—MOCA
WEIGH, VT FIX | BURLINGTON, VT VOR/DME
| N BND | 3000
| S BND | 4000
§ 95.6092 VOR Federal Airway V92 Is Amended To Delete
NEWCOMERSTOWN, OH DME | BELLAIRE, OH VOR/DME | 3000
§ 95.6096 VOR Federal Airway V96 Is Amended To Read in Part
FORT WAYNE, IN VORTAC | *TWERP, OH FIX | **5000
*5000—MRA
**2400—MOCA
§ 95.6104 VOR Federal Airway V104 Is Amended To Delete
BURLINGTON, VT VOR/DME | MONTPELIER, VT VOR/DME | 6300
MONTPELIER, VT VOR/DME | AYZOO, NH WP | 5400
AYZOO, NH WP | BERLIN, NH DME | *7000
*6400—MOCA
BERLIN, NH DME | ANSYN, ME WP | 6500
ANSYN, ME WP | BANGOR, ME VORTAC | 4000
§ 95.6108 VOR Federal Airway V108 Is Amended To Read in Part
ADANE, CO FIX | *HUGO, CO VOR/DME | 9000
*7100—MCA HUGO, CO VOR/DME, W BND
HUGO, CO VOR/DME | GOODLAND, KS VORTAC | 7000
§ 95.6114 VOR Federal Airway V114 Is Amended To Delete
BONHAM, TX VORTAC | QUITMAN, TX VOR/DME | 2500
QUITMAN, TX VOR/DME | GREGG COUNTY, TX VORTAC | 2400
§ 95.6115 VOR Federal Airway V115 Is Amended To Delete
PARKERSBURG, WV VOR/DME | NEWCOMERSTOWN, OH DME | 3000
NEWCOMERSTOWN, OH DME | ATWOO, OH FIX | 3000
ATWOO, OH FIX | CAPEL, OH FIX | *6000
*3500—MOCA
CAPEL, OH FIX | FRANKLIN, PA VOR | 3500
§ 95.6116 VOR Federal Airway V116 Is Amended To Delete
ERIE, PA VORTAC | BRADFORD, PA VOR/DME | *5000
*3900—MOCA
BRADFORD, PA VOR/DME | STONYFORK, PA VOR/DME | 4500
§ 95.6119 VOR Federal Airway V119 Is Amended To Delete
NEWCOMBE, KY VORTAC | *CROUP, OH FIX | 2800
*5500—MCA CROUP, OH FIX, NE BND
CROUP, OH FIX | HENDERSON, WV VORTAC | 5500
CLARION, PA VOR/DME | BRADFORD, PA VOR/DME | #4200
#BRADFORD R-232 UNUSABLE. USE CLARION R-050
BRADFORD, PA VOR/DME | WELLSVILLE, NY DME | *4500
*4000—MOCA
WELLSVILLE, NY DME | BURST, NY FIX | 4500
BURST, NY FIX | GENESEO, NY VOR/DME | 4000
GENESEO, NY VOR/DME | ROCHESTER, NY VOR/DME | 2800
§ 95.6123 VOR Federal Airway V123 Is Amended To Delete
CAMBRIDGE, NY VOR/DME | GLENS FALLS, NY VORTAC | 4500
§ 95.6126 VOR Federal Airway V126 Is Amended To Delete
ERIE, PA VORTAC | BRADFORD, PA VOR/DME | *5000
*3900—MOCA
BRADFORD, PA VOR/DME | STONYFORK, PA VOR/DME | 4500
§ 95.6128 VOR Federal Airway V128 Is Amended To Delete
JANESVILLE, WI VOR/DME | ROCKFORD, IL VOR/DME | 2700
ROCKFORD, IL VOR/DME | KELSI, IL FIX | 2700
KELSI, IL FIX | SMARS, IL FIX | 3000
SMARS, IL FIX | KANKAKEE, IL VOR/DME | 2700
KANKAKEE, IL VOR/DME | KENLA, IL FIX | 2400
KENLA, IL FIX | VAGES, IN FIX | 2600
VAGES, IN FIX | *POTES, IN FIX | **4000
*4000—MRA
**2300—MOCA
POTES, IN FIX | JAKKS, IN FIX | *4000
*2300—MOCA
JAKKS, IN FIX | BRICKYARD, IN VORTAC | 2700
§ 95.6144 VOR Federal Airway V144 Is Amended To Delete
BRADFORD, IL VORTAC | KANKAKEE, IL VOR/DME | 2700
KANKAKEE, IL VOR/DME | RODNY, IN FIX | 2400
RODNY, IN FIX | MAPPS, IN FIX | *3000
*2200—MOCA
MAPPS, IN FIX | CLEFT, IN FIX | *4000
*2400—MOCA
CLEFT, IN FIX | FORT WAYNE, IN VORTAC | 2800
§ 95.6164 VOR Federal Airway V164 Is Amended To Delete
BUFFALO, NY VOR/DME | *BENEE, NY FIX | **11000
*11000—MCA BENEE, NY FIX, N BND
**4400—MOCA
**5000—GNSS MEA
BENEE, NY FIX | WELLSVILLE, NY DME | *6000
*4500—MOCA
*5000—GNSS MEA
WELLSVILLE, NY DME | STONYFORK, PA VOR/DME | 4500
§ 95.6170 VOR Federal Airway V170 Is Amended To Delete
BRADFORD, PA VOR/DME | SLATE RUN, PA VORTAC | 4000
§ 95.6217 VOR Federal Airway V217 Is Amended To Delete
HIBBING, MN VOR/DME | BAUDETTE, MN VOR/DME | *5000
*3100—MOCA
BAUDETTE, MN VOR/DME | U.S. CANADIAN BORDER | 2800
§ 95.6218 VOR Federal Airway V218 Is Amended To Read in Part
*INTERNATIONAL FALLS, MN VOR/DME | JIBDU, MN FIX
| N BND | 4000
| S BND | 10000
*7800—MCA INTERNATIONAL FALLS, MN VOR/DME, S BND
JIBDU, MN FIX | BEBEL, MN FIX
| N BND | 7000
| S BND | 10000
BEBEL, MN FIX | SQEAK, MN FIX | 10000
§ 95.6243 VOR Federal Airway V243 Is Amended To Delete
CHOO CHOO, TN VORTAC | MCMIN, TN FIX | 4000
MCMIN, TN FIX | HARME, TN FIX | *6000
*3700—MOCA
HARME, TN FIX | BOWLING GREEN, KY VORTAC | *2800
*2300—MOCA
§ 95.6265 VOR Federal Airway V265 Is Amended To Delete
KEATING, PA VORTAC | BRADFORD, PA VOR/DME | 4000
BRADFORD, PA VOR/DME | JAMESTOWN, NY VOR/DME | 4000
§ 95.6270 VOR Federal Airway V270 Is Amended To Delete
JAMESTOWN, NY VOR/DME | VAIRS, NY FIX | 4000
VAIRS, NY FIX | WELLSVILLE, NY DME | *4500
*4000—MOCA
WELLSVILLE, NY DME | WOMAN, NY FIX | *4500
*4000—MOCA
WOMAN, NY FIX | ELMIRA, NY VOR/DME | *4000
*3400—MOCA
§ 95.6322 VOR Federal Airway V322 Is Amended To Delete
WYLIE, NH FIX | BUKER, NH WP | *7000
*6000—MOCA
BUKER, NH WP | BERLIN, NH DME | *6000
*5100—MOCA
BERLIN, NH DME | U.S. CANADIAN BORDER | #6500
#FOR THAT AIRSPACE OVER U.S. TERRITORY
§ 95.6331 VOR Federal Airway V331 Is Amended To Delete
HAZARD, KY VOR/DME | NEWCOMBE, KY VORTAC | *4000
*3500—MOCA
§ 95.6382 VOR Federal Airway V382 Is Amended To Read in Part
GRAND JUNCTION, CO VOR/DME | *CONES, CO VOR/DME | 12100
*14200—MCA CONES, CO VOR/DME, SE BND
CONES, CO VOR/DME | *DURANGO, CO VOR/DME | 15500
*12500—MCA DURANGO, CO VOR/DME, NW BND
§ 95.6421 VOR Federal Airway V421 Is Amended To Read in Part
BLUE MESA, CO VOR/DME | *WENDT, CO FIX
| N BND | 16300
| S BND | 13400
*13900—MCA WENDT, CO FIX, N BND
WENDT, CO FIX | CAZUU, CO FIX | *16300
*14700—MOCA
§ 95.6422 VOR Federal Airway V422 Is Amended To Read in Part
WEBSTER LAKE, IN VOR | FLAG CITY, OH VORTAC | 2700
§ 95.6423 VOR Federal Airway V423 Is Amended To Delete
BINGHAMTON, NY VOR/DME | ITHACA, NY VOR/DME | 3700
ITHACA, NY VOR/DME | SYRACUSE, NY VORTAC | *4000
*3100—MOCA
§ 95.6428 VOR Federal Airway V428 Is Amended To Delete
ELMIRA, NY VOR/DME | ITHACA, NY VOR/DME | 3800
ITHACA, NY VOR/DME | CORTA, NY FIX | 3600
CORTA, NY FIX | GEORGETOWN, NY VORTAC | *5000
*3600—MOCA
§ 95.6431 VOR Federal Airway V431 Is Amended To Delete
GARDNER, MA VOR/DME | KEENE, NH VORTAC | 3600
KEENE, NH VORTAC | BRATS, VT FIX | *4400
*3600—MOCA
BRATS, VT FIX | GLENS FALLS, NY VORTAC | 7000
GLENS FALLS, NY VORTAC | GASSY, NY FIX | *10000
*6000—GNSS MEA
§ 95.6437 VOR Federal Airway V437 Is Amended To Read in Part
CHARLESTON, SC VORTAC | WESEL, SC FIX
| S BND | 1800
| N BND | 4000
WESEL, SC FIX | *FILLI, SC FIX | **4000
*4500—MRA
**1900—MOCA
FILLI, SC FIX | FLORENCE, SC VORTAC | 4000
§ 95.6469 VOR Federal Airway V469 Is Amended To Read in Part
LYNCHBURG, VA VOR/DME | RADIA, VA FIX | #
#LYNCHBURG R-352 UNUSABLE
RADIA, VA FIX | RELEE, VA FIX | #
#LYNCHBURG R-352 UNUSABLE
RELEE, VA FIX | EXRAS, VA FIX | #*
*5200—GNSS MEA
#LYNCHBURG R-352 UNUSABLE
EXRAS, VA FIX | BRUCY, VA FIX | #*
*6900—GNSS MEA
#LYNCHBURG R-352 UNUSABLE
BRUCY, VA FIX | BOIER, WV FIX | *10000
*6900—MOCA
*6900—GNSS MEA
§ 95.6478 VOR Federal Airway V478 Is Amended To Delete
FALMOUTH, KY VOR/DME | NEWCOMBE, KY VORTAC | 3100
NEWCOMBE, KY VORTAC | BECKLEY, WV VOR/DME | 5900
§ 95.6487 VOR Federal Airway V487 Is Amended To Read in Part
CAMBRIDGE, NY VOR/DME | WEIGH, VT FIX | 4600
WEIGH, VT FIX | BURLINGTON, VT VOR/DME
| N BND | 3000
| S BND | 4600
§ 95.6489 VOR Federal Airway V489 Is Amended To Delete
ALBANY, NY VORTAC | GLENS FALLS, NY VORTAC | *7000
*5000—GNSS MEA
§ 95.6496 VOR Federal Airway V496 Is Amended To Delete
UTICA, NY VORTAC | MALLO, NY FIX | 4500
MALLO, NY FIX | GLENS FALLS, NY VORTAC | *7000
*6000—GNSS MEA
GLENS FALLS, NY VORTAC | KERST, VT FIX | *10000
*6000—GNSS MEA
KERST, VT FIX | LEBANON, NH VOR/DME | 5900
§ 95.6499 VOR Federal Airway V499 Is Amended To Read in Part
LANCASTER, PA VOR/DME | CHLSE, PA FIX | *8000
*4000—MOCA
CHLSE, PA FIX | *MEGSS, PA FIX | **8000
*8000—MCA MEGGS S BND
**MOCA 4300
MEGSS, PA | BINGHAMPTON, NY VOR/DME | 4900
§ 95.6501 VOR Federal Airway V501 Is Amended To Delete
WELLSVILLE, NY DME | BEEPS, NY FIX | *4500
*4000—MOCA
§ 95.6505 VOR Federal Airway V505 Is Amended To Delete
GOPHER, MN VORTAC | SIREN, WI VOR/DME | 3000
SIREN, WI VOR/DME | DULUTH, MN VORTAC | 4000
Is Amended To Read in Part
SQEAK, MN FIX | BEBEL, MN FIX | 10000
BEBEL, MN FIX | JIBDU, MN FIX
| N BND | 7000
| S BND | 10000
JIBDU, MN FIX | *INTERNATIONAL FALLS, MN VOR/DME
| N BND | 4000
| S BND | 10000
*7800—MCA INTERNATIONAL FALLS, MN VOR/DME, S BND
§ 95.6532 VOR Federal Airway V532 Is Amended To Read in Part
PARON, AR FIX | *GATZY, AR FIX | **3700
*4800—MCA GATZY, AR FIX, W BND
**3100—MOCA
GATZY, AR FIX | *BLURB, AR FIX | **5500
*5000—MRA
*5500—MCA BLURB, AR FIX, E BND
**3200—MOCA
§ 95.6583 VOR Federal Airway V583 Is Amended To Delete
FRANKSTON, TX VOR/DME | QUITMAN, TX VOR/DME | 2300
QUITMAN, TX VOR/DME | PARIS, TX VOR/DME | 2100

From | To | MEA | MAA
§ 95.7001 Jet Routes
§ 95.7006 Jet Route J6 Is Amended To Delete
LITTLE ROCK, AR VORTAC | BOWLING GREEN, KY VORTAC | #18000 | 45000
#MEA IS ESTABLISHED WITH A GAP IN NAVIGATION SIGNAL COVERAGE
BOWLING GREEN, KY VORTAC | CHARLESTON, WV VOR/DME | 18000 | 45000
§ 95.7220 Jet Route J220 Is Amended To Read in Part
ARMEL, VA VOR/DME | STONYFORK, PA VOR/DME | #18000 | 23000
#ARMEL R-009 UNUSABLE BEYOND 74 NM
§ 95.7518 Jet Route J518 Is Amended To Read in Part
DRYER, OH VOR/DME | INDIAN HEAD, PA VORTAC | #18000 | 45000
#INDIAN HEAD R-310 UNUSABLE
#J518 UNUSABLE FROM KOZAR TO INDIAN HEAD

Airway Segment: From | Airway Segment: To | Changeover Points: Distance | Changeover Points: From
§ 95.8003 VOR Federal Airway Changeover Point
V33 Is Amended To Delete Changeover Point
KEATING, PA VORTAC | BRADFORD, PA VOR/DME | 30 | KEATING.
V104 Is Amended To Delete Changeover Point
MONTPELIER, VT VOR/DME | BERLIN, NH DME | 39 | MONTPELIER.
V119 Is Amended To Delete Changeover Point
NEWCOMBE, KY VORTAC | HENDERSON, WV | 32 | NEWCOMBE.
V128 Is Amended To Delete Changeover Point
SMARS, IL FIX | KANKAKEE, IL VOR/DME | #44 | SMARS.
#COP MEASURED FROM BDF VORTAC
V144 Is Amended To Delete Changeover Point
BRADFORD, IL VORTAC | KANKAKEE, IL VOR/DME | 44 | BRADFORD.
V265 Is Amended To Delete Changeover Point
KEATING, PA VORTAC | BRADFORD, PA VOR/DME | 30 | KEATING.
V270 Is Amended To Delete Changeover Point
JAMESTOWN, NY VOR/DME | WELLSVILLE, NY VORTAC | 22 | JAMESTOWN.
V382 Is Amended To Delete Changeover Point
CONES, CO VOR/DME | DURANGO, VO VOR/DME | 25 | CONES.
V428 Is Amended To Delete Changeover Point
ITHACA, NY VOR/DME | GEORGETOWN, NY VORTAC | 25 | ITHACA.
V505 Is Amended To Delete Changeover Point
GOPHER, MN VORTAC | SIREN, WI VOR/DME | 38 | GOPHER.

[FR Doc. 2020-17948 Filed 9-3-20; 8:45 am]

BILLING CODE 4910-13-P